DEPARTMENT OF COMMERCE

International Trade Administration

[A-552-802]

Certain Frozen Warmwater Shrimp From the Socialist Republic of Vietnam: Preliminary Results, Partial Rescission, and Preliminary Determination of No Shipments, of Antidumping Duty Administrative Review; 2018-2019

AGENCY: Enforcement and Compliance, International Trade Administration, Department of Commerce.

SUMMARY: The Department of Commerce (Commerce) preliminarily determines that no companies under review qualify for a separate rate and that these companies are, therefore, considered part of the Vietnam-Wide entity. The period of review (POR) is February 1, 2018 through January 31, 2019. Interested parties are invited to comment on these preliminary results.

DATES: Applicable September 12, 2019.

FOR FURTHER INFORMATION CONTACT: Irene Gorelik, AD/CVD Operations, Office VIII, Enforcement and Compliance, International Trade Administration, U.S. Department of Commerce, 1401 Constitution Avenue NW, Washington, DC 20230; telephone: (202) 482-6905.

SUPPLEMENTARY INFORMATION:

Background

On May 2, 2019, Commerce initiated an administrative review of certain frozen warmwater shrimp (shrimp) from the Socialist Republic of Vietnam (Vietnam) ¹ for 125 producers and exporters of subject merchandise.²

¹ See Initiation of Antidumping and Countervailing Duty Administrative Reviews, 84 FR 18777 (May 2, 2019) (Initiation Notice).

² Id. While there were 217 individual names upon which we initiated an administrative review, the number of actual companies for which a review was initiated is 125 when accounting for numerous duplicate names and minor name variations of the same companies requested by multiple interested parties, or groupings of companies that have been collapsed and/or have been previously found affiliated.

Based on timely withdrawals of review requests from the petitioner,³ ASPA,⁴ and various Vietnamese companies, Commerce rescinded this review, in part, with respect to a total of 48 companies, and their name variations, as identified in the Appendices of the First Partial Rescission and the Second Partial Rescission, in accordance with 19 CFR 351.213(d)(1).⁵

³ Ad Hoc Shrimp Trade Action Committee (the petitioner).

⁴ American Shrimp Processors Association (ASPA).

⁵ See Certain Frozen Warmwater Shrimp from the Socialist Republic of Vietnam: Partial Rescission of Antidumping Duty Administrative Review; 2018-2019, 84 FR 25238 (May 31, 2019) (First Partial Rescission); and Certain Frozen Warmwater Shrimp from the Socialist Republic of Vietnam: Partial Rescission of Antidumping Duty Administrative Review; 2018-2019, 84 FR 29172 (June 21, 2019) (Second Partial Rescission).

On May 30, 2019, Trong Nhan Seafood Company Limited (Trong Nhan) withdrew its request for review.⁶ After the Second Partial Rescission, on June 18, 2019, the petitioner and ASPA withdrew their respective review requests for Trong Nhan.⁷ Consequently, there are no remaining requests for review of Trong Nhan on the record and Commerce intends to rescind this review with respect to Trong Nhan as discussed in “Partial Rescission of Review” below. The number of companies, accounting for duplicate names, including Trong Nhan, which have been rescinded from review is 49, leaving 76 companies under active review, three of which have claimed no shipments, as discussed below.

⁶ See Trong Nhan Seafood Company Limited's Letter, “Withdrawal of Entry of Appearance and Review Request,” dated May 30, 2019. The petitioner and ASPA did not withdraw their respective review requests for Trong Nhan at the same time as Trong Nhan.

⁷ See Petitioner's Letter, “Domestic Producers' Partial Withdrawal of Review Requests,” dated June 18, 2019; and ASPA's Letter, “Partial Withdrawal of Review Requests,” dated June 18, 2019.

Respondent Selection

In the Initiation Notice, Commerce notified all interested parties that, “in the event Commerce limits the number of respondents {pursuant to section 777A(c)(2) of the Tariff Act of 1930, as amended (Act)}, for individual examination, for administrative reviews . . . Commerce intends to select respondents based on U.S. Customs and Border Protection (CBP) data for U.S. imports during the POR.” ⁸ Commerce placed CBP data on the record and invited comment from interested parties.⁹ No parties filed comments on the CBP data or the selection of respondents for individual examination. Thereafter, consistent with section 777(A)(c)(2) of the Act, on June 25, 2019, Commerce limited the number of respondents selected as mandatory respondents in this administrative review to the two largest companies by U.S. import entry volume for which a review has been requested and not rescinded: Cadovimex Seafood Import-Export & Processing Joint-Stock Company (Cadovimex) ¹⁰ and Phuong Nam Co., Ltd. (Phuong Nam).¹¹ Commerce issued its questionnaire to both companies, via FedEx, and confirmed delivery of the packages to the companies.¹² Neither Cadovimex nor Phuong Nam responded to the Section A portion of the questionnaire by the established deadline of July 17, 2019, nor did they request extensions of this deadline.

⁸ See Initiation Notice, 84 FR at 18777.

⁹ See Memorandum, “Customs Data of U.S. Imports of Certain Frozen Warmwater Shrimp for Respondent Selection,” dated May 9, 2019.

¹⁰ Cadovimex withdrew its request for review on May 30, 2019. See Cadovimex's Letter, “Withdrawal of Entry of Appearance and Review Request,” dated May 30, 2019. However, the petitioner and ASPA did not withdraw their requests for review of Cadovimex; thus, Cadovimex remains under active review.

¹¹ See Memorandum, “Selection of Respondents for Individual Examination,” dated June 25, 2019 (Respondent Selection Memo).

¹² See Memorandum, “NME AD Questionnaire Delivery Confirmations,” dated July 15, 2019.

Because neither Cadovimex nor Phuong Nam responded to our questionnaire, Commerce determined to select two additional mandatory respondents, representing the next two largest exporters under active review, based on the CBP data on the record: New Generation Seafood Joint Stock Company (New Generation) and Viet Asia Foods Company Limited (Viet Asia).¹³ Commerce issued its questionnaire to New Generation and Viet Asia ¹⁴ on July 29, 2019. On July 30, 2019, New Generation timely withdrew its review request.¹⁵ However, because the petitioner and ASPA did not withdraw their respective review requests of New Generation, the administrative review will continue for New Generation.¹⁶ With regard to Viet Asia, the record shows that, according to FedEx tracking information, delivery of the questionnaire to Viet Asia was unsuccessful due to an “incorrect address.” ¹⁷ As the only information on the record with regard to Viet Asia's address was contained within the petitioner's request for administrative review,¹⁸ Viet Asia has no legal representation in this review, and Viet Asia did not retrieve the questionnaire from ACCESS,¹⁹ there is no other reasonable method with which Commerce could have served Viet Asia with the questionnaire. Notwithstanding these facts, Viet Asia remains subject to the review, of which it was notified via the Initiation Notice. Neither New Generation nor Viet Asia responded to the Section A portion of the questionnaire by the established deadline of August 19, 2019, nor did they request extensions of this deadline.

¹³ See Memorandum, “Selection of Respondents for Individual Examination,” dated July 29, 2019.

¹⁴ As Viet Asia did not have counsel, we sent a hard-copy of the questionnaire via FedEx in addition to uploading it to ACCESS on July 29, 2019 (under ACCESS Barcode 3869876-01).

¹⁵ See New Generation's Letter, “Withdrawal of Review Request,” dated July 30, 2019.

¹⁶ While New Generation submitted a separate-rate application, Commerce subsequently selected New Generation for individual examination, which requires the company to complete the entire questionnaire for separate-rate eligibility. See Initiation Notice, 84 FR at 18778 (“For exporters and producers who submit a separate-rate application or certification and subsequently are selected as mandatory respondents, these exporters and producers will no longer be eligible for separate rate status unless they respond to all parts of the questionnaire as mandatory respondents.”).

¹⁷ See Memorandum, “NME AD Questionnaire Delivery Confirmation,” dated August 6, 2019, at Attachment 2.

¹⁸ See Petitioner's Letter, “Request for Administrative Reviews,” dated February 27, 2019, at 7.

¹⁹ See Memorandum, “NME AD Delivery Confirmation,” dated August 20, 2019, at Attachment, identifying the parties that accessed Viet Asia's questionnaire, none of whom were Viet Asia.

Scope of the Order

The merchandise subject to the order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, provided in Appendix I, remains dispositive.²⁰

²⁰ For a complete description of the Scope of the Order, see Appendix I.

Partial Rescission of Review

Pursuant to 19 CFR 351.213(d)(1), Commerce will rescind an administrative review, in whole or in part, if the party that requested the review withdraws its request within 90 days of the publication of the notice of initiation of the requested review. Because the petitioner, ASPA, and Trong Nhan all withdrew their requests for administrative review within 90 days of the date of publication of the Initiation Notice, and no other interested party requested a review of this company, Commerce is rescinding this review with respect Trong Nhan in accordance with 19 CFR 351.213(d)(1). Commerce will instruct CBP to assess antidumping duties on all appropriate entries at a rate equal to the cash deposit of estimated antidumping duties required at the time of entry, or withdrawal from warehouse, for consumption, during the period February 1, 2018 through January 31, 2019, in accordance with 19 CFR 351.212(c)(1)(i). Commerce intends to issue appropriate assessment instructions to CBP 15 days after the publication of this notice in the Federal Register.

Preliminary Determination of No Shipments

Based on our analysis of CBP information and information provided by BIM Foods Joint Stock Company (BIM), (2) Camranh Seafoods Co., Ltd. (Camranh), and (3) Vinh Hoan Corp. (Vinh Hoan) ²¹ and CBP's confirmation of no shipments ²² for these three companies, we preliminarily determine that these companies did not have any reviewable transactions during the POR. In addition, Commerce finds that, consistent with its assessment practice in non-market economy (NME) cases, it is appropriate not to rescind the review, in part, in these circumstances, but rather to complete the review with respect to these three companies and issue appropriate instructions to CBP based on the final results of the review.

²¹ See BIM's Letter, “No Shipment Certification,” dated May 7, 2019; Vinh Hoan Submission, “No Shipment Certification,” dated May 13, 2019; and Camranh Submission, “Notice of No Shipments,” dated June 3, 2019.

²² See Memorandum, “No Shipment Inquiry Results,” dated July 2, 2019.

Methodology

Commerce conducted this review in accordance with section 751(a)(1)(A) of the Act. Because the four selected mandatory respondents in this administrative review have not responded to the questionnaire, we preliminarily determine that they are ineligible for a separate rate and are part of the Vietnam-Wide entity, subject to the Vietnam-Wide entity rate of 25.76 percent.

Vietnam-Wide Entity

Commerce finds that 73 companies (see Appendix II), including the four companies selected for individual examination, under active review have not established eligibility for a separate rate and are considered to be part of the Vietnam-wide entity for these preliminary results.²³ Commerce's policy regarding conditional review of the Vietnam-wide entity applies to this administrative review.²⁴ Under this policy, the Vietnam-wide entity will not be under review unless a party specifically requests, or Commerce self-initiates, a review of the entity. Because no party requested a review of the Vietnam-wide entity, the entity is not under review and the entity's rate of 25.76 percent is not subject to change.

²³ See Appendix II for a full list of the 73 companies (accounting for duplicate names initiated upon).

²⁴ See Antidumping Proceedings: Announcement of Change in Department Practice for Respondent Selection in Antidumping Duty Proceedings and Conditional Review of the Nonmarket Economy Entity in NME Antidumping Duty Proceedings, 78 FR 65963 (November 4, 2013).

Preliminary Results of Review

Commerce finds that the four selected mandatory respondents did not respond to the questionnaire; thus, they have not established eligibility for a separate rate. Based on the above information, Commerce has not calculated any dumping margins for any companies under review, nor has Commerce granted separate rates to any companies under active review. As discussed above, Commerce has preliminarily determined that 73 companies under review, including the four mandatory respondents, to the Vietnam-wide entity, are subject to the Vietnam-wide entity rate of 25.76 percent (see Appendix II).

Disclosure and Public Comment

Normally, Commerce will disclose the calculations used in our analysis to parties in this review within five days of the date of publication of the notice of preliminary results in the Federal Register, in accordance with 19 CFR 351.224(b). However, here Commerce only applied the Vietnam-Wide rate, which was established in the underlying investigation, to the 73 companies identified in Appendix II.²⁵ Thus, there are no calculations to disclose.

²⁵ See Final Determination of Sales at Less Than Fair Value: Certain Frozen and Canned Warmwater Shrimp from the Socialist Republic of Vietnam, 69 FR 71005, 71008 (December 8, 2004) and accompanying Issues and Decision Memorandum at Comments 6 and 10C (“we have applied a rate of 25.76 percent, a rate calculated in the

initiation stage of the investigation from information provided in the petition . . .”).

Pursuant to 19 CFR 351.309(c)(1)(ii), interested parties may submit case briefs no later than 30 days after the publication of these preliminary results, and rebuttal comments within five days after the time limit for filing case briefs. Parties who submit case briefs or rebuttal briefs are requested to submit with the argument: (1) A statement of the issue; (2) a brief summary of the argument; and (3) a table of authorities.²⁶ Rebuttal briefs must be limited to issues raised in the case briefs.²⁷

²⁶ See 19 CFR 351.309(c) and (d).

²⁷ See 19 CFR 351.309(d)(2).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.²⁸ Parties should confirm by telephone the date, time, and location of the hearing two days before the scheduled date.

²⁸ See 19 CFR 351.310(d).

Commerce intends to issue the final results of this administrative review, including the results of our analysis of issues raised in the written comments, within 120 days of publication of these preliminary results in the Federal Register, unless this deadline is extended.

Assessment Rates

Upon issuance of the final results, Commerce will determine, and CBP shall assess, antidumping duties on all appropriate entries covered by this review.²⁹ Commerce intends to issue assessment instructions to CBP 15 days after the publication date of the final results of this review. If we continue to find no shipments for the companies identified in the “Preliminary Determination of No Shipments” section above, Commerce will instruct CBP to liquidate any suspended entries of subject merchandise from those companies at the Vietnam-wide rate.³⁰

²⁹ See 19 CFR 351.212(b).

³⁰ For a full discussion of this practice, see Non-Market Economy Antidumping Proceedings: Assessment of Antidumping Duties, 76 FR 65694 (October 24, 2011).

For the final results, if we continue to treat the 73 companies identified in Appendix II as part of the Vietnam-wide entity, we will instruct CBP to apply an ad valorem assessment rate of 25.76 percent to all entries of subject merchandise during the POR which were exported by those companies. The final results of this review shall be the basis for the assessment of antidumping duties on entries of merchandise covered by the final results of this review and for future deposits of estimated duties, where applicable.

Cash Deposit Requirements

The following cash deposit requirements will be effective upon publication of the final results of this administrative review for shipments of the subject merchandise from Vietnam entered, or withdrawn from warehouse, for consumption on or after the publication date, as provided by sections 751(a)(2)(C) of the Act: (1) For all Vietnam exporters of subject merchandise that have not been found to be entitled to a separate rate, the cash deposit rate will be the existing rate for the Vietnam-wide entity of 25.76 percent; and (2) for all non-Vietnam exporters of subject merchandise which have not received their own rate, the cash deposit rate will be the rate applicable to the Vietnam exporter that supplied that non-Vietnam exporter. These deposit requirements, when imposed, shall remain in effect until further notice.

Notification to Importers

This notice serves as a reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This determination is issued and published in accordance with sections 751(a)(1) and 777(i)(1) of the Act and 19 CFR 351.221(b)(4).

Dated: September 6, 2019.
Jeffrey I. Kessler,
Assistant Secretary for Enforcement and Compliance.

Appendix I

Scope of the Order

The scope of the order includes certain frozen warmwater shrimp and prawns, whether wild-caught (ocean harvested) or farm-raised (produced by aquaculture), head-on or head-off, shell-on or peeled, tail-on or tail-off,³¹ deveined or not deveined, cooked or raw, or otherwise processed in frozen form.

³¹ “Tails” in this context means the tail fan, which includes the telson and the uropods.

The frozen warmwater shrimp and prawn products included in the scope of the order, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations, which are not “prepared meals,” that contain more than 20 percent by weight of shrimp or prawn are also included in the scope of the order. Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); and (7) certain battered shrimp. Battered shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. When dusted in accordance with the definition of dusting above, the battered shrimp product is also coated with a wet viscous layer containing egg and/or milk, and par-fried. The products covered by this order are currently classified under the following HTS subheadings: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. These HTS subheadings are provided for convenience and for customs purposes only and are not dispositive, but rather the written description of the scope of this order is dispositive.³²

³² On April 26, 2011, Commerce amended the order to include dusted shrimp, pursuant to the U.S. Court of International Trade (CIT) decision in Ad Hoc Shrimp Trade Action Committee v. United States, 703 F. Supp. 2d 1330 (CIT 2010) and the U.S. International Trade Commission (USITC) determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Ad Hoc Shrimp Trade Action Committee v. United States, 703 F. Supp. 2d 1330 (CIT 2010); and Frozen Warmwater Shrimp from Brazil, China, India, Thailand, and Vietnam (Investigation Nos. 731-TA-1063, 1064, 1066-1068 (Review), USITC Publication 4221, March 2011.

Appendix II

Companies Subject To Review Determined To Be Part of the Vietnam-Wide Entity

1. A & CDN Foods Co., Ltd.

2. Amanda Seafood Co., Ltd.

3. An Huy B.T Co. Ltd.

4. Anh Koa Seafood

5. Anh Minh Quan Joint Stock Company

6. Asia Food Stuffs Import Export Co., Ltd.

7. B.O.P Company Limited

8. B.O.P. Limited Co.

9. Binh Dong Fisheries Joint Stock Company

10. Binh Thuan Import-Export Joint Stock Company (THAIMEX)

11. Ca Mau Agricultural Products and Foodstuff Imp-Exp Joint Stock Company (Agrimexco Camau)

12. Cadovimex Seafood Import-Export and Processing Joint Stock Company (“Cadovimex”)

Cadovimex Seafood Import-Export and Processing Joint Stock Company (Cadovimex)

Cai Doi Vam Seafood Import-Export Co. (“CADOVIMEX”)

13. Cholimex Food Joint Stock Company

14. CJ Cau Tre Foods Joint Stock Company

15. CJ Freshway (FIDES Food System Co., Ltd.)

16. Coastal Fisheries Development Corporation (“COFIDEC”)

17. Cty Tnhh Anh Khoa Seafood

18. Danang Seaproducts Import-Export Corporation (SEADANANG)

19. Dong Do Profo., Ltd.

20. Dong Hai Seafood Limited Company

21. Dong Phuong Seafood Co., Ltd.

22. Duc Cuong Seafood Trading Co., Ltd.

23. Fine Foods Company (FFC)

Fine Foods Company (FFC) (Ca Mau Foods & Fishery Export Joint Stock Company)

24. Gallant Dachan Seafood Co., Ltd.

25. Gallant Ocean (Vietnam) Co., Ltd.

Gallant Ocean Viet Nam Co., Ltd.

26. Green Farms Joint Stock Company

Green Farms Seafood Joint Stock Company

Green Farms Seafoods Joint Stock Company

27. Ha Cat A International Co., Ltd.

28. Hanh An Trading Service Co., Ltd.

29. Hanoi Seaproducts Import & Export Joint Stock Corporation (Seaprodex Hanoi)

30. Hoa Trung Seafood Corporation (HSC)

31. Hong Ngoc Seafood Co., Ltd.

32. Hung Bang Co., Ltd.

33. HungHau Agricultural Joint Stock Company

34. Huynh Huong Seafood Processing

35. Huynh Huong Trading and Import-Export Joint Stock Company

36. JK Fish Co., Ltd.

37. Kaiyo Seafood Joint Stock Company

38. Khai Minh Trading Investment Corporation

39. Khanh Hoa Seafoods Exporting Company (KHASPEXCO)

40. Lam Son Import-Export Foodstuff Company Limited (Lamson Fimexco)

Lam Son Import-Export Foodstuffs Corporation

41. Long Toan Frozen Aquatic Products Joint Stock Company

42. Minh Bach Seafood Company (Minh Binh Seafood Foods Co., Ltd.)

Minh Bach Seafood Company Limited

43. Minh Cuong Seafood Import Export Processing Joint Stock Company (“MC Seafood”)

Minh Cuong Seafood Import-Export Processing (“MC Seafood”)

44. Minh Phu Seafood Corporation

45. Namcan Seaproducts Import Export Joint Stock Company (Seanamico)

46. New Generation Seafood Joint Stock Company

New Generation Seafood Joint Stock Company (“New Generation”)

47. New Wind Seafood Co., Ltd.

48. Nha Trang Fisheries Joint Stock Company

Nha Trang Fisheries Joint Stock Company (“Nha Trang Fisco”)

49. Nhat Duc Co., Ltd.

50. Nigico Co., Ltd.

51. Phu Cuong Jostoco Corp.

Phu Cuong Jostoco Seafood Corporation

52. Phu Minh Hung Seafood Joint Stock Company

53. Phuong Nam Foodstuff Corp.

Phuong Nam Foodstuff Corp., Ltd.

54. Quoc Ai Seafood Processing Import Export Co., Ltd.

55. Quoc Toan Seafood Processing Factory (Quoc Toan PTE)

56. Quy Nhon Frozen Seafoods Joint Stock Company

57. Saigon Aquatic Product Trading Joint Stock Company (APT Co.)

58. Saigon Food Joint Stock Company

59. Seafood Joint Stock Company No.4

60. South Ha Tinh Seaproducts Import-Export Joint Stock Company

61. Special Aquatic Products Joint Stock Company (SEASPIMEX VIETNAM)

62. T & P Seafood Company Limited

63. Tai Nguyen Seafood Co., Ltd.

64. Tan Phong Phu Seafood Co., Ltd. (“TPP Co., Ltd.”)

Tan Phong Phu Seafood Co., Ltd. (TPP Co. Ltd.)

65. Tan Thanh Loi Frozen Food Co., Ltd.

66. Thien Phu Export Seafood Processing Company Limited

67. Thinh Hung Co., Ltd.

68. Trang Corporation (Vietnam)

69. Trang Khan Seafood Co., Ltd.

70. Viet Asia Foods Co., Ltd.

71. Viet Nam Seaproducts—Joint Stock Company

72. Viet Phu Foods and Fish Corp.

73. Viet Shrimp Export Processing Joint Stock Company

[FR Doc. 2019-19793 Filed 9-11-19; 8:45 am]

BILLING CODE 3510-DS-P